DEPARTMENT OF DEFENSE

Office of the Secretary

Renewal of Department of Defense Federal Advisory Committees

AGENCY: DoD.

ACTION: Renewal of United States Military Academy Board of Visitors.

SUMMARY: Under the provisions of 10 U.S.C. 2166(e), the Federal Advisory Committee Act of 1972 (5 U.S.C. Appendix), the Government in the Sunshine Act of 1976 (5 U.S.C. 552b), and 41 CFR 102-3.50(a), the Department of Defense gives notice that it is renewing the charter for the United States Military Academy Board of Visitors (hereinafter referred to as “the Board”).

The Board shall provide independent advice and recommendations to the President of the United States on matters relating to the United States Military Academy (hereinafter referred to as the “Academy”), including morale and discipline, curriculum, instruction, physical equipment, fiscal affairs, academic methods, and any other matters relating to the Academy that the Board decides to consider.

The Board shall report to the President of the United States. The Secretary of the Army, in accordance with DoD policies/procedures may act upon the Board's advice and recommendations. The Board shall be constituted annually of 15 members. Under the provisions of 10 U.S.C. 4355, the Board members shall be comprised of the following individuals: The Chairperson of the Senate Committee on Armed Services, or designee; three other members of the Senate designated by the Vice President or President pro tempore of the Senate, two of whom are members of the Senate Committee on Appropriations; the Chairperson of the House Committee on Armed Services, or designee; four other members of the House of Representatives designated by the Speaker of the House of Representatives, two of whom are members of the House Committee on Appropriations; and six persons designated by the President. Board members designated by the President shall serve for three years except that any member whose term of office has expired shall continue to serve until a successor is appointed. In addition, the President shall designate two persons each year to succeed the members whose terms expire that year. If a member of the Board dies or resigns, a successor shall be designated for the unexpired portion of the term by the official who designated the member. The Board members shall select the Board Chairperson from the total membership. Board members who are full-time or permanent part-time Federal officers and employees shall be appointed as regular government employees or ex officios as appropriate. Board members designated by the President, who are not full-time or permanent part-time federal officers or employees, shall be appointed to serve as special government employees under the authority of 5 U.S.C. 3109, and these appointments shall be renewed on an annual basis. Board members shall, with the exception of travel and per diem for official travel, serve without compensation.

The Board, pursuant to 10 U.S.C. 4355(g), may, upon approval by the Secretary of the Army, call in advisers for consultation, and these advisers shall, with the exception of travel and per diem for official travel, serve without compensation.

The Department, when necessary and consistent with the Board's mission and DoD policies/procedures, may establish subcommittees, task forces, or working groups to support the Board. Establishment of Subcommittees will be based upon written determination, to include terms of reference, by the Secretary of Defense, the Deputy Secretary of Defense, or the Board's sponsor.

Such Subcommittees or working groups shall not work independently of the chartered Board, and shall report all of their recommendations and advice solely to the Board for full deliberation and discussion. Subcommittees have no authority to make decisions and recommendations, verbally or in writing, on behalf of the chartered Board; nor can any Subcommittee or its members update or report directly, verbally or in writing, to the DoD or any Federal officers or employees.

All Subcommittee members shall be appointed by the Secretary of Defense according to governing DoD policies and procedures even if the member in question is already a Board member. Such individuals shall be appointed to serve as experts and consultants under the authority of 5 U.S.C. 3109, and shall serve as special government employees. Subcommittee members, with the approval of the Secretary of Defense, may serve a term of service on the subcommittee of one to four years; however, no member shall serve more than two consecutive terms of service on the Subcommittee, unless authorized by the Secretary of Defense. Subcommittee member appointments must be renewed on an annual basis. With the exception of travel and per diem, Subcommittee members shall serve without compensation. All Subcommittees shall operate under the provisions of the FACA, the Government in the Sunshine Act, governing Federal statutes and regulations, and governing DoD policies/procedures.

FOR FURTHER INFORMATION CONTACT: Jim Freeman, Advisory Committee Management Officer for the Department of Defense, 703-692-5952.

SUPPLEMENTARY INFORMATION: The Board shall meet at the call of the Designated Federal Officer, in consultation with the Board's Chairperson. The estimated number of Board meetings is three per year.

In addition, the Designated Federal Officer is required to be in attendance at all Board and subcommittee meetings for the entire duration of each and every meeting; however, in the absence of the Designated Federal Officer, the Alternate Designated Federal Officer shall attend the entire duration of the Board or subcommittee meeting.

Pursuant to 41 CFR 102-3.105(j) and 102-3.140, the public or interested organizations may submit written statements to the Board membership about the Board's mission and functions. Written statements may be submitted at any time or in response to the stated agenda of planned meeting of the Board.

All written statements shall be submitted to the Designated Federal Officer, and this individual will ensure that the written statements are provided to the membership for their consideration. Contact information for the Board's Designated Federal Officer can be obtained from the GSA's FACA Database— https://www.fido.gov/facadatabase/public.asp.

The Designated Federal Officer, pursuant to 41 CFR 102-3.150, will announce planned meetings of the Board. The Designated Federal Officer, at that time, may provide additional guidance on the submission of written statements that are in response to the stated agenda for the planned meeting in question.

Dated: November 28, 2012.
Aaron Siegel,
Alternate OSD Federal Register Liaison Officer, Department of Defense.

[FR Doc. 2012-29087 Filed 11-30-12; 8:45 am]

BILLING CODE 5001-06-P